DEPARTMENT OF COMMERCE

National Oceanic and Atmospheric Administration

[Docket No. 001214351-3009-04]

Dr. Nancy Foster Scholarship Program; Financial Assistance for Graduate Students

AGENCY: National Ocean Service (NOS), National Oceanic and Atmospheric Administration (NOAA), U.S. Department of Commerce.

ACTION: Notice.

SUMMARY: The National Oceanic and Atmospheric Administration (NOAA) is announcing funding availability for graduate students pursuing masters or doctoral level degrees in oceanography, marine biology, or maritime archaeology through the Dr. Nancy Foster Scholarship Program and is inviting applications for such scholarships. The intent of this program is to recognize outstanding scholarship and encourage independent graduate level research in the above mentioned fields.

DATES: Applications must be received by March 10, 2003 no later than 5 p.m. Eastern Standard Time. Scholarship awards will be announced in July 2003.

ADDRESSES: Applications should be sent to the Dr. Nancy Foster Scholarship Program, Attention: Office of the Assistant Administrator, 13th Floor, National Ocean Service, 1305 East-West Highway, Silver Spring, MD 20910. Information on the scholarship program may be obtained from the Web site: http://fosterscholars.noaa.gov

FOR FURTHER INFORMATION CONTACT: Dr. Nancy Foster Scholarship Program, Office of the Assistant Administrator, 13th Floor, National Ocean Service, 1305 East-West Highway, Silver Spring, MD 20910 (301-713-3074).

SUPPLEMENTARY INFORMATION: Authority: The Dr. Nancy Foster Scholarship Program is authorized at 16 U.S.C. 1445c-1 to recognize outstanding scholarship in oceanography, marine biology, or maritime archaeology, particularly by women and members of minority groups, and encourage independent graduate-level research through financial support of graduate studies in such fields.

Catalog of Federal Domestic Assistance: This program is listed under CFDA #11.460, titled Special Oceanic and Atmospheric Projects.

Program Description: The Dr. Nancy Foster Scholarship Program provides support for independent graduate-level studies in oceanography, marine biology, or maritime archaeology, particularly by women and members of minority groups. Gender and minority status is not considered when selecting award recipients. However, special outreach efforts are employed to solicit applications from women and minorities. Scholarship selections are based on financial need, academic excellence, recommendations, and research and career goals. The program is administered through NOAA's National Ocean Service and is funded annually with 1% of the amount appropriated each fiscal year to carry out the National Marine Sanctuaries Act.

Funding Availability: For the 2003-2004 academic year, Dr. Nancy Foster Scholarships may provide, subject to appropriations, support of up to $32,000 per student: a 12-month stipend of $20,000 in addition to a tuition allowance of up to $12,000. A maximum of $64,000 may be provided to masters students (up to two years of support) and up to $128,000 may be provided to doctoral students (up to four years of support). For the 2003-2004 academic year, NOAA expects to award up to five scholarships.

The annual stipend will be paid directly to the scholar. The stipend is intended to defray cost-of-living expenses, and not to support research costs. NOAA anticipates the student and their faculty advisor will secure research funds independent of the scholarship. Tuition and academic fees will be negotiated between the academic institution and the Dr. Nancy Foster Scholarship program manager at NOAA prior to the receipt of funds. This negotiation is intended to leverage scholarship funds and enhance opportunities for scholarship recipients. In those instances in which tuition and academic fees are not totally waived by the academic institution, the tuition allowance in an amount equal to the tuition and fees not waived (but not to exceed $12,000) will be paid directly to the scholar for remittance to the academic institution. If tuition and fees are reduced or waived by the academic institution, then that portion of the tuition allowance not needed (i.e., up to $12,000 in the case of a total waiver) will be retained by NOAA for future scholarships. No money will be paid directly to the student from the tuition allowance for purposes other than the payment of tuition and fees.

Specific instructions regarding the disbursement, management, and reporting requirements for all stipend and tuition allowance payments will be provided to the scholarship recipients upon selection for the award. The awarding of funds beyond the first year will be based on availability of funds, continued eligibility of the student, periodic certification by the academic institution that adequate academic progress is being made, and compliance with applicable reporting requirements. At its discretion, each academic institution may supplement a scholar's stipend from institutional funds in accordance with the supplementation policy of the institution.

Matching Requirements: There are no matching requirements for an award.

Type of Funding Instrument: Grant.

Eligibility Criteria: Only United States citizens currently pursuing or intending to pursue a masters or doctoral level degree in oceanography, marine biology, or maritime archaeology, including the curation, preservation, and display of maritime artifacts, are eligible for an award under this scholarship program. Prospective scholars do not need to be enrolled, but must be admitted to a graduate-level program in order to apply for this scholarship. Funds will not be released until the applicant provides certification (from the student's institution) supporting the student's acceptance to a graduate program. Studies must be conducted on a full-time basis. Recipients of scholarship awards may be employed at the time of the award if it is a requirement of their degree program or directly related to their research effort. Other forms of employment will not be allowed and scholars will be required to submit a letter certifying that they are in compliance with this requirement. Eligibility must be maintained for each succeeding year of support and annual reporting requirements, to be specified at a later date, will apply.

Award Period: This solicitation applies only to applicants whose studies begin in the fall 2003. Stipends will cover a 12 month period. Masters students may be supported for up to two years, and doctoral students for up to four years.

Indirect Costs: No indirect costs will be paid on this award.

Applications: This notice contains all necessary information and announces a closing date of March 10, 2003 for the submission of applications. Applications must be received March 10, 2003 no later than 5:00 Eastern Standard Time. Scholarship awards will be announced in July 2003.

Applications: Each application must include these following items. Failure to submit these items exactly as described in each section below will disqualify the application from consideration.

(I) General Information Sheet

(II) Statement of Intent

(III) Institute Certification or Letter of Acceptance (for those applicants who are currently enrolled in a graduate program for which support is requested, or who have received acceptance for fall 2003 enrollment in a graduate program for which support is requested)

(IV) Transcripts

(V) Three Letters of Recommendation

(VI) Declaration

I. General Information Sheet

Personal Data: Provide your full name, country of citizenship, current address, permanent address, and home and work telephone numbers. If you can be reached by fax or e-mail, include that information. Optional—for statistical collection purposes only: Indicate your gender, and race or ethnicity.

Degree Sought: State your proposed field of study (oceanography, marine biology or maritime archaeology) and degree type you are seeking (e.g., M.S., M.A., Ph.D). Include the month and year you expect the degree to be awarded. State the name and location of your institution.

Education: List the academic degrees you have received, or expect to receive by the start of your proposed graduate studies for this program, including the date and institution.

Statement of Financial Need: State the estimated amount needed for tuition and fees. List all resources you have available to assist you in your graduate studies (e.g., grants, student loans, scholarships, personal funds). You must be specific. List all resources by date and amount received. Indicate whether the funding source will continue throughout the 2003-2004 school year. Also indicate any work requirements associated with these resources.

II. Statement of Intent

The Statement of Intent is a self-description of your academic, research, and career goals, and how your proposed course of study or research will help you achieve these goals but more importantly, this is your opportunity to present yourself, your beliefs, and your aspirations. Include any background information you believe is pertinent, and provide insight into why you have chosen the goals you are pursuing. This statement should not be a research proposal or scientific abstract. This statement will be used to evaluate you as an individual, not necessarily as a scientist, and your motivation for applying for this scholarship. This statement should demonstrate your organizational, analytical, and written communication skills. The Statement of Intent should be typewritten , single-spaced on a blank sheet of paper, and should not exceed one page in length. Statements longer than one page will not be accepted and will result in the application being disqualified.

III. Institute Certification

A letter from the applicant's institution certifying that the student is enrolled or has been accepted to a graduate program must be submitted with the application. The letter should consist of the following information on school letterhead and be signed by a school official: Name and location of the academic institution, the school and department that you currently are attending or plan to attend, and the month and year your studies will begin if you are not currently enrolled. If you have a graduate advisor, list his/her name, address, telephone and fax numbers, and e-mail address, if available, in the Institute Certification portion of your application. Current transcripts will not be accepted in lieu of Institute Certification. Failure to include the Institute Certification specifically as indicated above will result in the application being disqualified.

IV. Transcripts

Provide transcripts for all previous university/college-level studies. Photocopied transcripts are acceptable. Transcripts must be included with all other application materials. Those mailed separately will not be accepted. Failure to include transcripts from all previous university/college-level studies will result in the application being disqualified.

V. Three Letters of Recommendation

Each application must include three, but only three, signed letters of recommendation from individuals who have knowledge of your academic record, research effort, work and/or life experience. Relevant unpaid work, such as internships and volunteer efforts, is applicable. If you have a sponsor or advisor in the program, one of these letters should be from that individual. Letters of recommendation sent apart from the application will not be accepted. Applications without three, signed letters of recommendation or with more than three letters of recommendation will result in the application being disqualified.

VI. Declaration

Applicants must certify that all statements and information in their applications are true and correct by copying the following on a plain sheet of paper, signing it, and including it in their application:

I, the undersigned, declare, under penalty of perjury, that all statements and information in my application are true and correct.

Executed on [insert date].

Print or Type Name

Signature

Failure to include this statement, signed by the applicant, will result in the application being disqualified.

Funding Priorities: The priority of the program is to fund independent graduate-level studies in oceanography, marine biology, or maritime archaeology with scholarships distributed by disciplines, institutions and geography, and by the degree type and level being sought, with selections within distributions based on financial need, the potential for success in a graduate studies program, and the potential for achieving research and career goals.

Evaluation Criteria: The evaluation criteria and their weights are as follows: (a) Financial need (40%); (b) academic record (20%); (c) recommendations (18%); (d) organizational, analytical, and written communication skills based on statement of intent (15%); and (e) research and career goals and objectives as described in your statement of intent (7%).

Selection Procedures: An advisory panel of NOAA experts will review applications based on the evaluation criteria and provide a numerical score for each. The Program Manager will rank the applications based on these scores. Applications falling within the top 10 percent will be reviewed by a second panel of federal experts from which scholarship recipients will be chosen. The second panel will consider the following criteria: Availability of funds, distribution of awards across disciplines, institutions and geography, the degree type and level being sought, and the statement of intent. Therefore, scholarship awards will not necessarily be made to the applicants receiving the highest scores. The panel will arrive at a consensus decision for selection of scholarship recipients.

Announcement of Awards: The names, academic institutions, degrees being sought, research plans, and biographical information of the scholarship awardees will be posted on NOAA's National Ocean Service Web site and may be published in marketing materials developed to advertise the Dr. Nancy Foster Scholarship Program.

Unsuccessful Applicants: The applications of unsuccessful applicants will be destroyed following the selection of the recipients.

Other Requirements: The Department of Commerce Pre-Award Notification Requirements for Grants and Cooperative Agreements contained in the Federal Register notice of October 1, 2001 (66 FR 49917) as amended by the Federal Register Notice published on October 30, 2002 (67 FR 66109) is applicable to this solicitation.

Classification: This document contains collection-of-information requirements subject to the Paperwork Reduction Act (PRA). This application has been approved by the Office of Management and Budget (OMB) under control number 0648-0432. Public reporting burden for this collection of information is 4.5 hours for an application and 45 minutes per letter of recommendation. These estimates include the time for reviewing instructions, searching existing data sources, gathering and maintaining the data needed, and completing and reviewing the collection of information. Notwithstanding any other provision of law, no person is required to respond to, nor shall any person be subject to a penalty for failure to comply with, a collection-of-information subject to the PRA, unless that collection displays a currently valid OMB control number.

Applications under this program are not subject to Executive Order 12372, Intergovernmental Review of Federal Programs.

This action has been determined to be not significant for purposes of Executive Order 12866.

Because notice and comment are not required under 5 U.S.C. 553, or any other law, for notices relating to public property, loans, grants, benefits or contracts, a Regulatory Flexibility Analysis, 5 U.S.C. 601 et. seq. is not required and has not been prepared for this notice.

Dated: January 16, 2003.
Alan Neuschatz,
Associate Assistant Administrator for Management, National Ocean Service, National Oceanic and Atmospheric Administration, U.S. Department of Commerce.

[FR Doc. 03-1339 Filed 1-21-03; 8:45 am]

BILLING CODE 3510-JE-P